DEPARTMENT OF ENERGY

Federal Energy Regulatory Commission

[Docket No. RP01-612-003]

ANR Pipeline Company; Notice of Compliance Filing

November 1, 2002.

Take notice that on October 28, 2002, ANR Pipeline Company (ANR), tendered for filing as part of its FERC Gas Tariff, Original Volume No. 1, the following tariff sheets, with an effective date of March 31, 2002:

First Revised Sheet No. 106

First Revised Sheet No. 141A

ANR states that the tariff sheets are being filed in compliance with the Commission's September 26, 2002 order accepting ANR's proposed Associated Liquefiables tariff revisions. This filing also incorporates the required language that permits Shippers to trade PTR imbalances when known and provides the procedures used for making PTR nominations and determining PTR imbalances.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Linwood A. Watson, Jr.,
Deputy Secretary.

[FR Doc. 02-28444 Filed 11-7-02; 8:45 am]

BILLING CODE 6717-01-P